COMMODITY FUTURES TRADING COMMISSION

Market Risk Advisory Committee

AGENCY: Commodity Futures Trading Commission.

ACTION: Notice of meeting.

SUMMARY: The Commodity Futures Trading Commission (CFTC) announces that on September 28, 2022, from approximately 9:30 a.m. to 12:30 p.m. (Eastern Daylight Time), the Market Risk Advisory Committee (MRAC or Committee) will hold an in-person public meeting at the CFTC's Washington, DC headquarters with options for the public to attend virtually. At this meeting, the MRAC will address refining the Committee's agenda and topics of discussion on a forward-looking basis, developments in the digital asset markets and the unique risks of such markets, investor and customer protection in markets with increasing retail participation, the importance of climate-related market risk, and market structure developments, including a possible vote to reestablish the Market Structure subcommittee and a discussion of issues that should be addressed by that subcommittee.

DATES: The meeting will be held on September 28, 2022, from approximately 9:30 a.m. to 12:30 p.m. (Eastern Daylight Time). Please note that the meeting may end early if the MRAC has completed its business. Members of the public who wish to submit written statements in connection with the meeting should submit them by October 5, 2022.

ADDRESSES: The meeting will take place in the Conference Center at the CFTC's headquarters, Three Lafayette Centre, 1155 21st Street NW, Washington, DC 20581 subject to CFTC facility health protocols in place at that time. You may submit public comments, identified by “Market Risk Advisory Committee,” through the CFTC website at https://comments.cftc.gov. Follow the instructions for submitting comments through the Comments Online process on the website. If you are unable to submit comments online, contact Bruce Fekrat, Designated Federal Officer or Marilee Dahlman, Alternate Designated Federal Officer, via the contact information listed in the FOR FURTHER INFORMATION CONTACT section of this notice, to discuss alternate means of submitting your comments. Any statements submitted in connection with the committee meeting will be made available to the public, including publication on the CFTC website, https://www.cftc.gov.

FOR FURTHER INFORMATION CONTACT: Bruce Fekrat, MRAC Designated Federal Officer, Commodity Futures Trading Commission, Three Lafayette Centre, 1155 21st Street NW, Washington, DC 20581; (202) 418-5690; or Marilee Dahlman, MRAC Alternate Designated Federal Officer, Commodity Futures Trading Commission, Three Lafayette Centre, 1155 21st Street NW, Washington, DC; (202) 247-6544.

SUPPLEMENTARY INFORMATION: The meeting will be open to the public. Seating for the public may be limited due to the CDC's COVID-19 Community Level, which may require facilitating physical distancing to avoid overcrowding and additional restrictions. Members of the public may listen to the meeting by telephone by calling a domestic or international number to connect to a live, listen-only audio feed. Call-in participants should be prepared to provide their first name, last name, and affiliation.

Telephone: Dial (for higher quality, dial a number based on your current location): US: +1 669 254 5252 or +1 646 828 7666 or +1 669 216 1590 or +1 551 285 1373 or 833 568 8864 (Toll Free) or 833 435 1820 (Toll Free).

International Numbers: Will be posted on the CFTC's website, https://www.cftc.gov, on the page for the meeting, under Related Links.

Webinar ID: 160 382 3651.

Pass Code/Pin Code: 282509.

The meeting will also be open to the public via webcast on the https://www.cftc.gov website. The meeting agenda may change to accommodate other MRAC priorities. For agenda updates, please visit the MRAC committee site at: https://www.cftc.gov/About/CFTCCommittees/MarketRiskAdvisoryCommittee/mrac_meetings.html.

All written submissions provided to the CFTC in any form will also be published on the CFTC's website. Persons requiring special accommodations to attend the meeting because of a disability should notify one of the individuals listed in the FOR FURTHER INFORMATION CONTACT section of this notice.

(Authority: 5 U.S.C. app. 2 section 10(a)(2).)

Dated: August 31, 2022.
Christopher Kirkpatrick,
Secretary of the Commission.

[FR Doc. 2022-19230 Filed 9-6-22; 8:45 am]

BILLING CODE 6351-01-P